DEPARTMENT OF THE TREASURY

Internal Revenue Service

26 CFR Part 1

[REG-112502-00]

RIN 1545-AY45

Guidance Under Subpart F Relating to Partnerships; Hearing Cancellation

AGENCY: Internal Revenue Service (IRS), Treasury.

ACTION: Cancellation of notice of public hearing on proposed rulemaking.

SUMMARY: This document provides notice of cancellation of a public hearing on proposed rulemaking relating to the treatment of a controlled foreign corporation's (CFC's) distributive share of partnership income.

DATES: The public hearing originally scheduled for Tuesday, December 5, 2000, at 10 a.m., is canceled.

FOR FURTHER INFORMATION CONTACT: Treena Garrett of the Regulations Unit, Office of Special Counsel (Modernization and Strategic Planning), at 622-7180 (not a toll-free number).

SUPPLEMENTARY INFORMATION: A notice of proposed rulemaking and notice of public hearing that appeared in the Federal Register on September 20, 2000 (65 FR 56836), announced that a public hearing was scheduled for December 5, 2000, in the Internal Revenue Building, 1111 Constitution Avenue, NW., Washington, DC. The subject of the public hearing is proposed regulations. The deadline for outlines of oral comments and requests to speak expired on November 14, 2000.

The notice of proposed rulemaking and notice of public hearing, instructed those interested in testifying at the public hearing to submit a request to speak and an outline of the topics to be addressed. As of November 21, 2000, no one has requested to speak. Therefore, the public hearing scheduled for December 5, 2000, is canceled.

Cynthia E. Grigsby,
Chief, Regulations Unit, Office of Special Counsel (Modernization and Strategic Planning).

[FR Doc. 00-30448 Filed 11-28-00; 8:45 am]

BILLING CODE 4830-01-U